DEPARTMENT OF AGRICULTURE

Food and Nutrition Service

Correction To Request for Information: Software Vendors of State and Local Management Information Systems (MIS) and Other Technology Solutions for the National School Lunch and School Breakfast Programs

AGENCY: Food and Nutrition Service (FNS), USDA.

ACTION: Notice correction.

SUMMARY: This notice was republished in error on January 13, 2016 at 81 FR 1599. This notice was originally published on February 25, 2015 at 80 FR 10047. The comment period remains closed and no further comments are being accepted at this time.

DATES: This notice was republished in error on January 13, 2016 at 81 FR 1599. No additional comments are being accepted.

FOR FURTHER INFORMATION CONTACT: Requests for additional information should be directed to Lynnette Thomas at Lynnette.Thomas@fns.usda.gov.

SUPPLEMENTARY INFORMATION: This notice was republished in error on January 13, 2016 at 81 FR 1599. This notice was originally published on February 25, 2015 at 80 FR 10047. The comment period remains closed and no further comments are being accepted at this time.

Dated: January 19, 2016.
Audrey Rowe,
Administrator, Food and Nutrition Service.

[FR Doc. 2016-01519 Filed 1-29-16; 8:45 am]

BILLING CODE 3410-30-P